FEDERAL COMMUNICATIONS COMMISSION

47 CFR Part 64

[CG Docket No. 17-59; DA 21-1240; FRS 54669]

Consumer and Governmental Affairs Bureau Announces Interim Usage Charges for the Reassigned Numbers Database

AGENCY: Federal Communications Commission.

ACTION: Interim action.

SUMMARY: The Consumer and Governmental Affairs Bureau (Bureau) of the Federal Communications Commission (FCC or Commission) announces the initial interim usage charges for subscriptions to the Reassigned Numbers Database beginning November 1, 2021. Callers and caller agents will be able to use the Database to determine whether a telephone number has been reassigned from the consumer they intend to reach, thus allowing them to avoid calling consumers with reassigned numbers who may not wish to receive their call.

DATES: The initial interim usage charges for subscriptions to the Reassigned Numbers Database were applicable beginning November 1, 2021.

FOR FURTHER INFORMATION CONTACT: Karen Schroeder, Associate Division Chief, Consumer Policy Division, Consumer and Governmental Affairs Bureau at (202) 418-0654 or via email at Karen.Schroeder@fcc.gov.

SUPPLEMENTARY INFORMATION: This is a summary of the Public Notice, DA 21-1240, CG Docket No. 17-59, released on October 1, 2021. The full text of this document is available online at https://www.fcc.gov/document/fcc-announces-interim-usage-charges-reassigned-numbers-data. To request this document in accessible formats for people with disabilities (e.g., Braille, large print, electronic files, audio format) or to request reasonable accommodations (e.g., accessible format documents, sign language interpreters, CART), send an email to fcc504@fcc.gov or call the FCC's Consumer and Governmental Affairs Bureau at (202) 418-0530 (voice).

Paperwork Reduction Act of 1995 Analysis

This document does not contain any new or modified information collection requirements subject to the Paperwork Reduction Act of 1995, Public Law 104-13. It, therefore, does not contain any new or modified information collection burden for small business concerns with fewer than 25 employees, pursuant to the Small Business Paperwork Relief Act of 2002, Public Law 107-198, see 44 U.S.C. 3506(c)(4).

Synopsis

1. In this document, the Consumer and Governmental Affairs Bureau (Bureau) announces the initial interim usage charges for subscriptions to the Reassigned Numbers Database (Database or RND). After a successful beta test, the Database was available for full use on November 1, 2021.

2. Subscription Tiers and Rates. The RND will offer six subscription tiers: Extra Small, Small, Medium, Large, Extra Large, and Jumbo, as summarized in the table below and further detailed in the Appendix. Those wishing to use the RND may sign up for a one-month subscription, a three-month subscription, or a six-month subscription. The RND Administrator (Administrator) expects to offer an annual subscription option in the future, as well.

3. The interim tiers and usage charges are the same regardless of whether the subscriber is a caller or a caller agent. Caller agents may register for a tier based on the aggregate number of queries needed for all of their clients, potentially allowing caller agents to register for a higher tier (and thus pay a lower charge per query) than their individual clients would use on their own.

4. Other Usage Charge Features. Under the interim usage charge model, if a subscriber exhausts its queries before the end of the subscription term, it has three options:

• Buy a new subscription. After using all the queries in the original subscription, the caller may purchase a new subscription. The new subscription would begin a new term (one-month, three-month, or six-month, depending on the option the subscriber selects).

• Upgrade to a higher tier. The subscriber has the option to pay the difference between the original tier and a new, higher tier, to increase the number of queries available, while keeping the original subscription term the same.

• Top off the subscription. The subscriber has the option to pay 10% of the usage charge of the subscription to receive 10% more queries, while keeping the original subscription term the same.

5. Basis for the Interim Usage Charges. The interim usage charges are based on the Administrator's recommendation guidance, consistent with the Advanced Methods to Target and Eliminate Unlawful Robocalls, Second Report and Order, 84 FR 11226, March 26, 2019, 33 FCC Rcd 12024, 12025 (2018); the contract's Performance Work Statement; and a recommendation from the North American Numbering Council. In addition, the Administrator obtained some information from the volume of queries entered by users of the Database during the RND beta test.

6. Adjustments to the Interim Usage Charges. The Commission required the Administrator to provide monthly analyses of the impacts of the interim usage charge structure. The Administrator may adjust the usage charges, including the number of tiers, the number of queries in the tiers, and the charge for each tier, on a monthly basis with approval of the Commission. The Bureau welcomes feedback via telephone or email to the Administrator. Contact information for the Administrator is located on the support page of the RND website, found at https://www.reassigned.us/support.

7. The Administrator will post notice of changes to the interim usage charges on the RND website (https://wwww.reassigned.us) two weeks before they go into effect. Registered subscribers will receive notice of changes to the interim usage charges before their subscription ends as part of the RND renewal notification process.

8. The Bureau anticipates that the Commission may commence a proceeding to establish a more permanent rate structure that would go into effect no sooner than January 1, 2023. The Bureau acknowledges that this is a unique scenario. Given the lack of data available, despite prior attempts to obtain it from commenters, and the inability to accurately predict the correct usage charges over an extended period without making the Database available to users, combined with the commitment to setting a usage charge that will encourage Database usage, the Bureau has determined that the best course forward is to set these interim usage charges and adjust them as the Administrator collects data throughout the first year of the Database's operation. Users of the Database have the ability to give continuous feedback to the Administrator as the Bureau works through setting the usage charge structure for the RND.

9. Ex Parte Rules. The Bureau encourages users of the Database to provide feedback on usage charges directly to the Administrator. These communications are not subject to ex parte restrictions. However, if interested parties desire to make presentations to bureau staff on matters concerning the Database and usage charges, this proceeding shall be treated as a “permit-but-disclose” proceeding in accordance with the Commission's ex parte rules. Persons making ex parte presentations must file a copy of any written presentation or a memorandum summarizing any oral presentations within two business days after the presentations (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule § 1.1206(b). In proceedings governed by rule § 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in the proceeding should familiarize themselves with the Commission's ex parte rules. The Administrator is exempt from the ex parte requirements. This exemption is necessary to allow the Administrator to engage in the frequent and close communications with Commission staff needed to exercise their administrative functions efficiently.

10. People with Disabilities. To request materials in accessible formats for people with disabilities (Braille, large print, electronic files, audio format), send email to fcc504@fcc.gov or call the Consumer and Governmental Affairs Bureau at 202-418-0530 (voice).

11. Additional Information. For further information regarding the Public Notice, please contact Karen Schroeder, Associate Division Chief, Consumer Policy Division, Consumer and Governmental Affairs Bureau at (202) 418-0654 or via email at Karen.Schroeder@fcc.gov.

12. Applicability Date. Good cause exists for making the interim usage charges in this document applicable upon publication of this document in the Federal Register, except as to those who have actual notice of the interim usage charges and choose to purchase a subscription for the Database prior to publication.

13. The Database was available for use on November 1, 2021. Providing a 30-day period after Federal Register publication before the interim usage charges in this document become applicable isn't necessary because the Database is now available. There is good cause to make these usage charges applicable upon Federal Register publication for the Administrator to collect subscription payments. Additionally, these interim usage charges became effective immediately for Database users who have actual notice of the charges and have purchased a subscription to the Database prior to Federal Register publication. For these reasons, and because participation in the RND is voluntary, there is good cause, pursuant to section 553(d)(3) of the Administrative Procedure Act, to make the interim usage charges in this document applicable upon publication in the Federal Register, except as to those parties with actual notice.

Federal Communications Commission.
Robert Garza,
Legal Advisor, Consumer and Governmental Affairs Bureau, Federal Communications Commission.

Note: The following appendix will not appear in the Code of Federal Regulations.

Appendix—RND Subscription Tiers and Usage Charges

[FR Doc. 2021-23855 Filed 11-4-21; 8:45 am]

BILLING CODE 6712-01-P